DEPARTMENT OF DEFENSE

Office of the Secretary

[Docket ID: DoD-2015-HA-0132]

Proposed Collection; Comment Request

AGENCY: Office of the Assistant Secretary of Defense for Health Affairs, DoD.

ACTION: Notice.

SUMMARY: In compliance with the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by January 25, 2016.

ADDRESSES: You may submit comments, identified by docket number and title, by any of the following methods:

• Federal eRulemaking Portal: http://www.regulations.gov. Follow the instructions for submitting comments.

• Mail: Department of Defense, Office of the Deputy Chief Management Officer, Directorate of Oversight and Compliance, Regulatory and Audit Matters Office, 9010 Defense Pentagon, Washington, DC 20301-9010.

Instructions: All submissions received must include the agency name, docket number and title for this Federal Register document. The general policy for comments and other submissions from members of the public is to make these submissions available for public viewing on the Internet at http://www.regulations.gov as they are received without change, including any personal identifiers or contact information.

Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the Defense Health Agency, TRICARE Policy and Benefits Office, 16401 E. Centretech Parkway, Aurora Co, 80011-9066, ATTN: Mr. Doug McBroom, or call 303-676-3533.

SUPPLEMENTARY INFORMATION:

Title; Associated Form; and OMB Number: DD Form 2876, TRICARE Prime Enrollment, Disenrollment, and Primary Care Manager (PCM) Change Form, OMB No. 0720-0008.

Needs and Uses: The information collection requirement is necessary to obtain the TRICARE beneficiary's personal information needed to: (1) Complete his/her enrollment into TRICARE Prime health plan, (2) change the beneficiary's enrollment (new Primary Care Manager, enrolled region, add/drop a dependent, etc.), or (3) dis-enroll the beneficiary. All TRICARE beneficiaries have the option of enrolling, changing their enrollment or dis-enrolling using the DD Form 2876, the Beneficiary Web Enrollment (BWE) portal, or by calling their regional Managed Care Support Contractor (MCSC). Although the telephonic enrollment/change is the preferred method by the large majority of beneficiaries, many beneficiaries prefer using the form to document their enrollment date and preferences.

Affected Public: Individuals and households.

Annual Burden Hours: 74,017.

Number of Respondents: 148,033.

Responses per Respondent: 1.

Average Burden per Response: 30 minutes.

Frequency: On occasion.

Respondents are TRICARE beneficiaries choosing to enroll in TRICARE Prime for the first time, change their current enrollment, or dis-enroll using the DD Form 2876, instead of using the BWE web portal or calling their Managed Care Support Contractor. The completed form is used by the TRICARE Managed Care Support Contractors to formally update the enrollment, enrollment change or dis-enrollment. The beneficiary is notified via email or postcard, which refers them to the MilConnect Web site to confirm the enrollment/change. A beneficiary can also call their Managed Care Support Contractor to confirm the change.

Dated: November 20, 2015.
Aaron Siegel,
Alternate OSD Federal Register Liaison Officer, Department of Defense.

[FR Doc. 2015-29997 Filed 11-24-15; 8:45 am]

BILLING CODE 5001-06-P